DEPARTMENT OF HOMELAND SECURITY

Coast Guard

33 CFR Part 117

[Docket No. USCG-2011-0149]

Drawbridge Operation Regulations; Bass River, Beverly, MA

AGENCY: Coast Guard, DHS.

ACTION: Notice of temporary deviation from regulations.

SUMMARY: The Commander, First Coast Guard District, has issued a temporary deviation from the regulation governing the operation of the Hall Whitaker Bridge at mile 0.6 across the Bass River at Beverly, Massachusetts. The deviation is necessary to facilitate structural repairs. This deviation allows the bridge to remain in the closed position during the deviation period.

DATES: This deviation is effective from 6 p.m. on March 25, 2011 through 6 p.m. on March 27, 2011.

ADDRESSES: Documents mentioned in this preamble as being available in the docket are part of docket USCG-2011-0149 and are available online at http://www.regulations.gov, inserting USCG-2011-0149 in the “Keyword” and then clicking “Search”. They are also available for inspection or copying at the Docket Management Facility (M-30), U.S. Department of Transportation, West Building Ground Floor, Room W12-140, 1200 New Jersey Avenue, SE., Washington, DC 20590, between 9 a.m. and 5 p.m., Monday through Friday, except Federal holidays.

FOR FURTHER INFORMATION CONTACT: If you have questions on this rule, call or e-mail Mr. John McDonald, Project Officer, First Coast Guard District, john.w.mcdonald@uscg.mil, or telephone (617) 223-8364. If you have questions on viewing the docket, call Renee V. Wright, Program Manager, Docket Operations, telephone 202-366-9826.

SUPPLEMENTARY INFORMATION: The Hall Whitaker Bridge, across the Bass River at Beverly, Massachusetts, has a vertical clearance in the closed position of 5 feet at mean high water and 14 feet at mean low water. The drawbridge operation regulations are listed at 33 CFR 117.588.

The owner of the bridge, Massachusetts Department of Transportation, requested a temporary deviation from the regulations to facilitate emergency repairs at the bridge. A routine structural inspection revealed deterioration on two steel floor beams at the bridge. The two beams must be replaced as soon as possible in the interest of public safety.

Under this temporary deviation the Hall Whitaker Bridge may remain in the closed position from 6 p.m. on March 25, 2011 through 6 p.m. on March 27, 2011. Vessels that can pass under the bridge in the closed position may do so at any time.

The Beverly Harbor Master and the local marinas were notified and no objections were received.

In accordance with 33 CFR 117.35(e), the bridge must return to its regular operating schedule immediately at the end of the designated time period. This deviation from the operating regulations is authorized under 33 CFR 117.35.

Dated: March 8, 2011.
Gary Kassof,
Bridge Program Manager, First Coast Guard District.

[FR Doc. 2011-6339 Filed 3-17-11; 8:45 am]

BILLING CODE 9110-04-P